DEPARTMENT OF HOMELAND SECURITY

Coast Guard

33 CFR Part 117

[USCG-2010-0325]

Drawbridge Operation Regulation; Long Island, New York Inland Waterway From East Rockaway Inlet to Shinnecock Canal, Hempstead, NY, Maintenance

AGENCY: Coast Guard, DHS.

ACTION: Notice of temporary deviation from regulations.

SUMMARY: The Commander, First Coast Guard District, has issued a temporary deviation from the regulation governing the operation of the Wantagh State Parkway Bridge across Sloop Channel at mile 15.4, at Jones Beach, New York. Under this temporary deviation the bridge may operate on a special operating schedule for five months to facilitate the completion of new bridge construction.

DATES: This deviation is effective from May 15, 2010 through October 30, 2010.

ADDRESSES: Documents mentioned in this preamble as being available in the docket are part of docket USCG-2010-0325 and are available online at http://www.regulations.gov, inserting USCG-2010-0325 in the “Keyword” and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Ms. Judy Leung-Yee, Project Officer, First Coast Guard District, telephone (212) 668-7165. If you have questions on viewing the docket, call Renee V. Wright, Program Manager, Docket Operations, telephone 202-366-9826.

SUPPLEMENTARY INFORMATION: The Wantagh State Parkway Bridge has a vertical clearance in the closed position of 20 feet at mean high water and 23 at mean low water. The existing drawbridge operation regulations are listed at 33 CFR 117.5.

The New York State Department of Transportation, requested a temporary deviation for the existing bridge to operate on special schedule to facilitate the completion of the new bridge construction.

The waterway has seasonal recreational vessels of various sizes.

We contacted the New York Marine Trades Association, South Bay Cruising Club, and Sector Long Island Sound. No objection to the proposed temporary deviation schedule was received.

Under this temporary deviation, in effect from May 15, 2010 through October 30, 2010, the Wantagh State Parkway Bridge at mile 15.4, across Sloop Channel, at Jones Beach, New York, shall operate as follows: The draw shall open on signal after at least a half-hour advance notice is given by calling the number posted at the bridge. From 6:30 a.m. through 12 noon and from 12:15 p.m. through 4 p.m., Monday through Friday, one bascule lift span may remain in the closed position. A full two lift span opening shall be given between 12 noon and 12:15 p.m. provided at least a one-hour advance notice is given by calling the number posted at the bridge.

From 7:30 a.m. through 8:30 p.m. on Saturday, Sunday and Federal holidays the draw shall open on the hour and half-hour provided at least a half-hour advance notice is given by calling the number posted at the bridge.

In accordance with 33 CFR 117.35(e), the bridge must return to its regular operating schedule immediately at the end of the designated time period. This deviation from the operating regulations is authorized under 33 CFR 117.35.

Dated: May 7, 2010.
Gary Kassof,
Bridge Program Manager, First Coast Guard District.

[FR Doc. 2010-12342 Filed 5-21-10; 8:45 am]

BILLING CODE 9110-04-P